DEPARTMENT OF HOMELAND SECURITY

Federal Emergency Management Agency

[Docket ID FEMA-2013-0002: Internal Agency Docket No. FEMA-B-1295]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Colorado:
El Paso | Unincorporated Areas of El Paso County (12-08-0579P) | The Honorable Amy Lathan Chair, El Paso County, Board of Commisioners 200 South Cascade Avenue, Suite 100, Colorado Springs, CO 8903 | Development Services Department, 2880 International Circle, Suite 110, Colorado Springs, CO 80910 | http://www.bakeraecom.com/index.php/colorado/el-paso | February 28, 2013 | 080059
Connecticut:
New Haven | Town of Beacon Falls (12-01-1573P) | The Honorable Gerald F. Smith, First Selectman, Town of Beacon Falls, 10 Maple Avenue, Beacon Falls, CT 06403 | Beacon Falls Town Hall, 10 Maple Avenue, Beacon Falls, CT 06403 | http://www.starr-team.com/starr/RegionalWorkspaces/RegionI/pages/LOMR.aspx | March 6, 2013 | 090072
Idaho: Latah | City of Moscow (11-10-1574P) | The Honorable Nancy Chaney, Mayor, City of Moscow, 206 East 3rd Street, Moscow, ID 83843 | Moscow Community Development, 221 East 2nd Street, Moscow, ID 83843 | http://www.starr-team.com/starr/LOMR/Pages/RegionX.aspx | March 27, 2013 | 160090
Illinois:
DuPage | Village of Roselle (12-05-8596P) | The Honorable Gayle Smolinski, Mayor, Village of Roselle, 31 South Prospect Street, Roselle, IL 30172 | Roselle Village Hall, 31 South Prospect Street, Roselle, IL 60172 | http://www.starr-team.com/starr/LOMR/Pages/RegionV.aspx | March 15, 2013 | 170216
Indiana:
Lake | Town of Munster (12-05-7873P) | The Honorable David Nellans, President, Munster Town Council, 1005 Ridge Road, Munster, IN 46321 | 1005 Ridge Road, Munster, IN 46321 | http://www.starr-team.com/starr/LOMR/Pages/RegionV.aspx | March 1, 2013 | 180139
Lake | City of Hammond (12-05-7873P) | The Honorable Thomas M. McDermott Jr., 5925 Calumet Avenue, Hammond, IN 46320 | Hammond City Hall, 5925 Calumet Avenue, Hammond, IN 46320 | http://www.starr-team.com/starr/LOMR/Pages/RegionV.aspx | March 1, 2013 | 180134
Kansas:
Sedwick | City of Wichita (12-07-0465P) | The Honorable Carl Brewer, Mayor, City of Wichita, 455 North Main, Wichita, KS 67202 | 455 North Main, 8th Floor, Wichita, KS 67202 | http://www.starr-team.com/starr/LOMR/Pages/RegionVII.aspx | March 12, 2013 | 200328
Sedwick | City of Maize (12-07-0465P) | The Honorable Clair Donnelly, Mayor, City of Maize, 10100 West Grady Avenue, Maize, KS 67101 | 10100 West Grady Avenue, Maize, KS 67101 | http://www.starr-team.com/starr/LOMR/Pages/RegionVII.aspx | March 12, 2013 | 200520
Sedwick | Unincorporated Areas of Sedwick County (12-07-0465P) | The Honorable Tim R. Norton, Chairman, Sedwick County, Board of Commissioners, 525 North Main, Suite 320, Wichita, KS 67203 | 144 South Seneca Street, Wichita, KS 67213 | http://www.starr-team.com/starr/LOMR/Pages/RegionVII.aspx | March 12, 2013 | 200321
Massachusetts:
Norfolk | Town of Sharon (12-01-2415P) | The Honorable Richard Alan Powell, Chair, Town of Sharon, Board of Selectman, 90 South Main Street, Sharon, MA 02067 | 217R South Main Street, Sharon, MA 02067 | http://www.starr-team.com/starr/RegionalWorkspaces/RegionI/pages/LOMR.aspx | March 11, 2013 | 250252
Plymouth | Town of Wareham (12-01-2090P) | The Honorable Stephen M. Holmes, Chairman, Town of Wareham Board of Selectman, 54 Marion Road, Wareham, MA 02571 | 54 Marion Road, Wareham, MA 02571 | http://www.starr-team.com/starr/RegionalWorkspaces/RegionI/pages/LOMR.aspx | March 15, 2013 | 255223
Minnesota:
Olmsted | City of Rochester (12-05-4929P) | The Honorable Ardell F. Brede, Mayor, City of Rochester, 201 4th Street Southeast, Room 281, Rochester, MN 55904 | 2122 Campus Drive, Southeast, Suite 100, Rochester, MN 55904 | http://www.starr-team.com/starr/LOMR/Pages/RegionV.aspx | March 21, 2013 | 275246
Missouri:
Greene | City of Springfield (12-07-2300P) | The Honorable Bob Stephens, Mayor, City of Springfield, 840 Boonville Avenue, Springfield, MO 65801 | 840 Boonville Avenue, Springfield, MO 65801 | http://www.starr-team.com/starr/LOMR/Pages/RegionVII.aspx | March 29, 2013 | 290149
Wisconsin:
Walworth | Village of Genoa City (12-05-6204P) | The Honorable John Wrzeszcz, President, Village of Genoa City Board, 810 Oak Ridge Lane, Genoa City, WI 53128 | Village Hall, 715 Walworth Street Genoa City, WI 53128 | http://www.starr-team.com/starr/LOMR/Pages/RegionV.aspx | March 15, 2013 | 550465
Walworth | Unincorporated Areas of Walworth County (12-05-6204P) | The Honorable Nancy Russell, Chairperson, Walworth, County Board of Supervisors, 100 West Walworth Street, Elkhorn, WI 53121 | 100 West Walworth Street, Elkhorn, WI 53121 | http://www.starr-team.com/starr/LOMR/Pages/RegionV.aspx | March 15, 2013 | 550462
Dane | City of Monona (12-05-5696P) | The Honorable Bob Miller Mayor, City of Monona, 5211 Schluter Road, Monona, WI 53716 | 5211 Schluter Road, Monona, WI 53716 | http://www.starr-team.com/starr/LOMR/Pages/RegionV.aspx | March 15, 2013 | 550088
Dane | City of Madison (12-05-5696P) | The Honorable Paul R. Soglin, Mayor, City of Madison, 210 Martin Luther King Jr. Boulevard, Room 403, Madison, WI 53703 | Department of Public Works and Transportation, Enginnering Division, 210 Martin Luther King Junior Boulevard, Room 115, Madison, WI 53703 | http://www.starr-team.com/starr/LOMR/Pages/RegionV.aspx | March 15, 2013 | 550083

(Catalog of Federal Domestic Assistance No. 97.022, “Flood Insurance.”)

James A. Walke,
Acting Deputy Associate Administrator for Mitigation, Department of Homeland Security, Federal Emergency Management Agency.

[FR Doc. 2013-03257 Filed 2-12-13; 8:45 am]

BILLING CODE 9110-12-P